NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before December 31, 2001. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-713-6852 or by e-mail to records.mgt@arch2.nara.gov. Requesters must cite the control number, which appears in parentheses after the name of the agency which submitted the schedule, and must provide a mailing address. Those who desire appraisal reports should so indicate in their request.

FOR FURTHER INFORMATION CONTACT: Michael Miller, Director, Modern Records Programs (NWM), National Archives and Records Administration, 8601 Adelphi Road, College Park, MD 20740-6001. Telephone: (301) 713-7110. E-mail: records.mgt@arch2.nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Army, Agency-wide (N1-AU-01-29, 5 items, 5 temporary items). Short term records relating to the administrative control of classified North Atlantic Treaty Organization information. Included are such records as classified document receipts, registers, and document destruction certificates. Also included are electronic copies of documents created using electronic mail and word processing. This schedule authorizes the agency to apply the proposed disposition instructions to any recordkeeping medium.

2. Department of Commerce, Office of the Inspector General (N1-40-01-2, 3 items, 3 temporary items). Records of the Office of Inspections and Program Evaluations and the Office of Systems Evaluation, including reports, working files, and electronic copies of documents created using electronic mail and word processing.

3. Department of Commerce, Office of the Inspector General (N1-40-02-1, 6 items, 5 temporary items). Records of the Office of Investigations, including case files pertaining to routine investigations, files containing information or allegations that do not relate to a specific investigation, name check files of individuals and entities seeking financial assistance from the agency, and electronic copies of documents created using electronic mail and word processing. Proposed for permanent retention are recordkeeping copies of case files pertaining to significant investigations.

4. Department of Commerce, National Oceanic and Atmospheric Administration (N1-370-01-1, 18 items, 16 temporary items). Records relating to assessments of the damage done to U.S. coastal and marine natural resources as a result of oil spills or other incidents. Included are such records as pre-settlement case files, evidence tracking records, cost accounting files, rulemaking working files, and electronic copies of documents created using electronic mail and word processing. Proposed for permanent retention are recordkeeping copies of pre-settlement administrative record files and rulemaking administrative record files documenting the decisions, actions, and policies of the agency.

5. Department of Defense, Military Services Offices of Surgeons General (N1-330-01-2, 29 items, 29 temporary items). Medical records accumulated by Army, Air Force, and Navy. Included are such files as inpatient treatment records, outpatient treatment records, substance abuse records, x-rays, dental records, and radiation oncology records. Also included are electronic copies of documents created using electronic mail and word processing. This schedule standardizes the descriptions and disposition instructions for these records, which were previously approved for disposal.

6. Department of Defense, Army and Air Force Exchange Service (N1-334-01-1, 4 items, 4 temporary items). Records relating to the service and employment history of non-appropriated fund employees. Included are official personnel folders, folders for non-U.S. citizen employees, and convenience files. Also included are electronic copies of documents created using electronic mail and word processing.

7. Department of Defense, National Imagery and Mapping Agency (N1-537-01-3, 1 item, 1 temporary item). Users' manuals for various systems used for managing and utilizing information in the National Photographic Interpretation Center during the period 1966-1978.

8. Department of Energy, Strategic Petroleum Reserve, (N1-434-01-6, 14 items, 11 temporary items). Records relating to operational activities of the Strategic Petroleum Reserve. Included are records relating to crude oil sampling, commercial pipelines and terminals, accountability for crude oil, daily pressure monitoring, site development, and the preparation of economic studies. Also included are electronic copies of documents created using electronic mail and word processing. Proposed for permanent retention are recordkeeping copies of drawdown policy and procedures documents, economic studies and reports, and periodic publications.

9. Department of the Treasury, Office of the Under Secretary for Enforcement (N1-56-01-7, 11 items, 5 temporary items). Speeches and testimony of the Under Secretary and Assistant and Deputy Assistant Secretaries (Enforcement) and subject and chronological files accumulated by the Offices of the Directors of Tariff and Trade Affairs, Finance and Administration, Policy Development, Professional Responsibility, Special Task Forces, Financial Enforcement, Operations, and Law Enforcement. Also included are electronic copies of records created using electronic and mail and word processing. Proposed for permanent retention are recordkeeping copies of the subject files, chronological files, schedules of daily activities, and telephone logs of the Under Secretary and Assistant and Deputy Assistant Secretaries.

10. Department of the Treasury, U.S. Customs Service (N1-36-00-1, 4 items, 4 temporary items). Manifests and cargo declarations pertaining to inward and outward shipments. Electronic copies created using word processing and electronic mail are included. This schedule, which stems from business process reengineering improvements, consolidates record series and reduces retention periods for recordkeeping copies of these records, which were previously approved for disposal.

11. Department of Veterans Affairs, Veterans Health Administration (N1-15-00-1, 6 items, 6 temporary items). Records used to determine eligibility for the Civilian Health and Medical Program. Records consist of medical benefit applications and related documentation that support claims for medical services. Included are paper files, versions produced using scanning and optical imaging, and electronic copies of documents created using electronic mail and word processing.

12. Pension Benefit Guaranty Corporation, Office of Inspector General (N1-465-01-2, 16 items, 13 temporary items). Records relating to investigations and audits. Included are such records as files pertaining to allegations that do not support the opening of a formal investigation file, routine investigation case files, automated case tracking records relating to routine investigations, final reports of routine audits, and audit working files. Also included are electronic copies of records created using electronic mail and word processing. Proposed for permanent retention are recordkeeping copies of significant investigation records and related electronic case tracking data and final reports of significant audits.

13. Tennessee Valley Authority, TVA Police (N1-142-99-1, 11 items, 10 temporary items). Files documenting public safety and law enforcement activities including forms, correspondence, plans, manuals, receipts, reports and other records relating to firearms inspections, identification cards, property and evidence control records, metal detector permits, and activity reports. Also included are electronic copies of records created using electronic mail, word processing, and other office automation applications. Recordkeeping copies of standard operating policies and procedures are proposed for permanent retention.

14. Tennessee Valley Authority, River System Operations and Environment (N1-142-00-5, 3 items, 3 temporary items). Memorandums, reports, and other records relating to safety inspections of river system dams. Also included are electronic copies of documents created using electronic mail and word processing. This schedule increases the retention period for recordkeeping copies of these files, which were previously approved for disposal.

Dated: November 9, 2001.
Michael J. Kurtz,
Assistant Archivist for Record Services—Washington, DC.

[FR Doc. 01-28716 Filed 11-15-01; 8:45 am]

BILLING CODE 7515-01-P